NUCLEAR REGULATORY COMMISSION

[Docket No. 040-08526]

Notice of Availability of Environmental Assessment and Finding of No Significant Impact for License Amendment to Byproduct Materials License No. SUC-1275, for Termination of the NRC License and Unrestricted Release of the Seneca Army Depot Activity Facility in Romulus, New York

AGENCY: Nuclear Regulatory Commission.

ACTION: Issuance of Environmental Assessment and Finding of No Significant Impact for License Amendment.

FOR FURTHER INFORMATION CONTACT: Betsy Ullrich, Commercial and R&D Branch, Division of Nuclear Materials Safety, Region I, U.S. Nuclear Regulatory Commission, 475 Allendale Road, King of Prussia, Pennsylvania 19406. Telephone: (610) 337-5040; fax number: (610) 337-5269; e-mail: exu@nrc.gov.

SUPPLEMENTARY INFORMATION:

I. Introduction

The U.S. Nuclear Regulatory Commission (NRC) is considering the issuance of a license amendment to Source Materials License No. SUC-1275. This license is held by the Department of the Army, Seneca Army Depot Activity (the Licensee) for its Seneca Army Depot located in Romulus, New York (the Facility). Issuance of this amendment would authorize release of the Facility for unrestricted use and termination of the NRC license. The licensee requested this action in a letter dated June 15, 2004.

The NRC has prepared an Environmental Assessment (EA) in support of this action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's June 15, 2004, license amendment request, resulting in the termination of its NRC materials license and release of the Facility for unrestricted use. License No. SUC-1275 was issued on September 3, 1976, pursuant to 10 CFR Part 40, and has been amended periodically since that time. This license authorized the Licensee to use depleted uranium (DU) for purposes of handling, on-site transportation, inspection, storage and demilitarization of DU cartridges. As a Depot, this facility also stored military commodities authorized under License Nos. SUC-1380, SUB-834, and 45-16023-01NA, most of which was in the form DU commodities. One location was used for storage of uranium and thorium ores authorized by License No. STC-133, and that location was decommissioned in 1993. Records also indicate that promethium-147 microspheres in military equipment, authorized by License No. 12-00722-07, were also stored in one location at the Facility.

The Facility is situated on 10,587 acres and consists of ammunition bunkers called “igloos”, warehouses, and support buildings located in a sparsely populated farmland area. Within the Facility, use of licensed materials was confined to five buildings, one warehouse, and 121 ammunition bunkers.

In September 1999, the Licensee ceased licensed activities and initiated preliminary decommissioning activities. Based on the Licensee's historical knowledge of the site and the conditions of the Facility, the Licensee determined that only routine decontamination activities, in accordance with their NRC-approved, operating radiation safety procedures, were required. However, because the possession and use of DU had been authorized by its license, the Licensee elected to demonstrate compliance with the radiological criteria for unrestricted release as specified in 10 CFR 20.1402 by developing derived concentration guideline levels (DCGLs) for its Facility. The proposed DCGLs were submitted in their License Termination Plan dated February 11, 2003. After the NRC approved the License Termination Plan in 2003, the license was amended to authorize decommissioning activities only. The Licensee conducted surveys of the Facility and provided information to the NRC to demonstrate that it met the criteria in Subpart E of 10 CFR Part 20 for unrestricted release and for license termination in a Termination Report dated June 15, 2004. A confirmatory survey was performed by Oak Ridge Institute for Science and Education (ORISE) in October 2006, to verify the radiological status of the Facility.

Need for the Proposed Action

The Licensee ceased conducting licensed activities at the Facility, and seeks the unrestricted use of its Facility and the termination of its NRC materials license. Termination of its license would end the Licensee's obligation to pay annual license fees to the NRC.

Environmental Impacts of the Proposed Action

The historical review of licensed activities conducted at the Facility shows that such activities involved use of the following radionuclides with half-lives greater than 120 days: Depleted uranium (DU) and promethium-147 (Pr-147). Prior to performing the final status survey, the Licensee conducted decontamination activities, as necessary, in the areas of the Facility affected by these radionuclides.

The Licensee conducted final status surveys from July through September 2002. The final status survey report was attached to the Licensee's amendment request dated June 15, 2004. The Licensee developed site-specific DCGL's to demonstrate compliance with the radiological criteria for unrestricted release, using a release criteria of 10 millirem per year, which is below the 25 millirem per year limit in 10 CFR 20.1402. The Licensee conducted site-specific dose modeling using input parameters specific to the Facility, using the RESRAD code resident farmer scenario and the RESRAD-Build building occupancy scenario. The Licensee thus determined the maximum amount of residual radioactivity on building surfaces, equipment, materials, and soils that will satisfy the NRC requirements in subpart E of 10 CFR Part 20 for unrestricted release. The NRC previously reviewed the Licensee's methodology and proposed DCGLs, and concluded that the proposed DCGLs were acceptable for use as release criteria at the Facility. The Licensee's final status survey results were below these DCGLs, and are thus acceptable.

The NRC contracted with ORISE which conducted confirmatory scanning and dose rate surveys from October 30 to November 2, 2006. None of the confirmatory survey results exceeded the DCGLs established for the Facility. Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 [ML042310492, ML042320379, and ML042330385]. The Licensee also considered and appropriately accounted for the dose contribution from previous site releases. Accordingly, there were no significant environmental impacts from the use of radioactive material at the Facility. The NRC staff reviewed the docket file records and the final status survey report to identify any non-radiological hazards that may have impacted the environment surrounding the Facility. No such hazards or impacts to the environment were identified. The NRC has found no other radiological or non-radiological activities in the area that could result in cumulative environmental impacts.

The NRC staff finds that the proposed release of the Facility for unrestricted use and the termination of the NRC materials license is in compliance with 10 CFR 20.1402, including the impact of residual radioactivity at previously-released site locations of use. Based on its review, the staff considered the impact of the residual radioactivity at the Facility and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 40.42(d), requiring that decommissioning of source material facilities be completed and approved by the NRC after licensed activities cease. The NRC's analysis of the Licensee's final status survey data confirmed that the Facility meets the requirements of 10 CFR 20.1402 for unrestricted release and for license termination. Additionally, this denial of the application would result in no change in current environmental impacts. The environmental impacts of the proposed action and the no-action alternative are therefore similar, and the no-action alternative is accordingly not further considered.

Conclusion

The NRC staff has concluded that the proposed action complies with the NRC's unrestricted release criteria specified in 10 CFR 20.1402. Because the proposed action will not significantly impact the quality of the human environment, the NRC staff concludes that the proposed action is the preferred alternative.

Agencies and Persons Consulted

NRC provided a draft of this Environmental Assessment to the New York State Department of Environmental Conservation for review on April 3, 2007. On May 2, 2007, New York State Department of Environmental Conservation responded by e-mail. The State agreed with the conclusions of the EA, and otherwise had no comments.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. NUREG-1757, “Consolidated NMSS Decommissioning Guidance;”

2. Title 10 Code of Federal Regulations, Part 20, Subpart E, “Radiological Criteria for License Termination;”

3. Title 10, Code of Federal Regulations, Part 51, “Environmental Protection Regulations for Domestic Licensing and Related Regulatory Functions;”

4. NUREG-1496, “Generic Environmental Impact Statement in Support of Rulemaking on Radiological Criteria for License Termination of NRC-Licensed Nuclear Facilities;”

5. Inspection records and Licensing documentation for License SUC-1275 with amendments;

6. Letter dated February 11, 2003, with the Seneca Army Depot Activity License Termination and License Release Plan dated February 11, 2003 [ML030450373];

7. Letters dated April 3, 2003 [ML031010534], September 2, 2004 [ML042540117] and January 28, 2005 [ML050320064];

8. Letter dated June 15, 2004, requesting termination [ML041810284] with NRC License Termination Report for Seneca Army Depot Activity, Romulus, New York, dated June 30, 2004 [ML041810290 and ML041810294];

9. Letter dated February 28, 2005 [ML050970152] with Summary Tables [ML051050173], Retrospective Power Curves [ML051050181, ML051050183, ML051050184, ML051050185, ML051050188, ML051050191, ML051050195, ML051050197, ML051050203, and ML051050205], and Supplementary Information Spreadsheets [ML051050208, ML051050215, ML051050217, ML051050218, ML051050219, ML051050220, ML051050231, ML051050253, ML051050255, ML051050305, ML051050307, ML051050313, ML051050315, ML051050317, ML051050318, ML051050320, ML051050321, ML051050322, ML051050324, ML051050325, ML051050327, ML051050329, ML051050331, ML051050332, ML051050334, ML051050335, ML051050339, ML051050343, ML051050344, ML051050346, ML051050347, ML051050360, ML051050362, ML051050363, ML051050364, ML051050366, ML051050367, ML051050370, ML051050373, ML051050375, ML051050376, ML051050378, ML051050379, ML051050381, ML051050382, ML051050386, ML051050388, ML051050391, ML051050394, ML051050396, ML051050398, ML051050399, ML051050401, ML051050402, ML051050405, ML051050407, ML051050408, ML051050409, ML051050410, ML051050439, ML051050443, ML051050445, ML051050446, ML051050451, ML051050452, ML051050453, ML051050454, ML051050457, ML051050459, ML051050460, ML051050462, ML051050464, ML051050465, ML051050466, ML051050468, ML051050478, ML051050479, ML051050511, ML051050512, ML051050513, ML051050516, ML051050517, ML051050519, ML051050537, ML051050541, ML051050542, ML051050544, ML051050545, ML051050546, ML051050547, ML051050551, ML051050553, ML051050555, ML051050557, ML051050559, ML051050561, ML051050563, ML051050564, ML051050565, ML051080165, ML051080166, ML051080171, ML051080175, ML051080177, ML051080179, ML051080181, ML051080196, ML051080197, ML051080198, ML051080212, ML051080227, ML051080229, ML051080230, ML051080239, ML051080240, ML051080242, ML051080243, ML051080244, ML051080245, ML051080247, ML051080248, ML051080249, ML051080252, ML051080253, ML051080254, ML051080255, ML051080256, ML051080257, ML051080259, ML051080260, ML051080261, ML051080263, ML051080265, ML051080268, ML051080271, ML051080273, ML051080278, ML051080280, ML051080282, ML051080284, ML051080286, ML051080287, ML051080290, ML051080293, ML051080296, ML051080297, ML051080299, ML051080300, ML051080301, ML051080303, ML051080305, ML051080306, ML051080309, ML051080319, ML051080321, ML051080323, ML051080325, ML051080327, ML051080332, ML051080335, ML051080337, ML051080338, ML051080342, ML051080343, ML051080345, ML051080346, ML051080350, ML051080352, ML051080355, ML051080356, ML051080358, ML051080359, ML051080360, ML051080361, ML051080363, ML051080365, ML051080367, ML051080369, ML051080370, ML051080372, ML051080374, ML051080394, ML051080403, ML051080404, ML051080405, and ML051080408];

10. Letter dated October 5, 2005 [ML070300192];

11. Letter dated November 29, 2005 [ML053470250] with Addendum A, Data Evaluation Using the Scenario A Null Hypothesis, dated November 30, 2005 [ML053470337];

12. Oak Ridge Institute for Science and Education (ORISE), Proposed Confirmatory Survey Plan for the Seneca Army Depot Activity (SEDA), Romulus, New York, dated October 27, 2006 [ML070300233]; and

13. ORISE letter dated March 13, 2007 [ML070790088] with ORISE Confirmatory Survey Results for the Seneca Army Depot Activity (SEDA), Romulus, New York, Final Report, February 2007 [ML070790054];

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at King of Prussia, PA, this day of June 8th, 2007.
For the Nuclear Regulatory Commission.
James P. Dwyer,
Chief, Commercial and R&D Branch, Division of Nuclear Materials Safety, Region 1.

[FR Doc. E7-11570 Filed 6-14-07; 8:45 am]

BILLING CODE 7590-01-P